Proclamation 10484 of October 31, 2022

National Adoption Month, 2022

By the President of the United States of America

A Proclamation

During National Adoption Month, let us celebrate families that create safe and supportive homes and families that are made whole through adoption, and let us continue working to ensure that every child has a loving family to call their own.

I am committed to helping families pay for the costs of adopting a child, which is why I have called for the adoption tax credit to be made fully refundable. This would enable devoted adoptive families to worry less about the costs of welcoming children into their homes and focus more on laying the supportive foundation for full and happy lives. I have also proposed extending the adoption tax credit to legal guardianships—including grandparents, aunts, uncles, and other relatives—which would make it easier for loving family members to care for children who need their support. This measure could also help reduce racial inequities in our country's child welfare system, which too often render some children of color more likely to be removed from their homes and cut off from their families and communities.

At the same time, my Administration is fighting discrimination in the adoption process. As part of my Executive Order on Advancing Equality for Lesbian, Gay, Bisexual, Transgender, Queer, and Intersex Individuals, we are partnering with State child welfare agencies to remove barriers and combat biases that can make it harder for LGBTQI+ families to adopt. The Department of Health and Human Services will provide training and technical assistance to State child welfare agencies in order to better support LGBTQI+ youth, whose needs are often unmet in the foster care system, and take steps to ensure all youth are placed in supportive environments. Additionally, we are committed to ensuring that older adolescents transitioning from the foster care system have access to housing and education and can pay their bills and prepare for adulthood, which is why I have proposed increasing funding for the John H. Chafee Successful Transition to Adulthood program by 70 percent.

This National Adoption Month, we recognize all the adoptive and kinship families across America who change children's lives for the better. We give thanks for the foster families who love, care for, and provide for our Nation's foster youth as well as the dedicated professionals who are invested in these children's futures. We send our encouragement to everyone still waiting for the chance to adopt and grow their family. We rededicate ourselves to ensuring that all children have the unconditional love of a permanent home.

NOW, THEREFORE, I, JOSEPH R. BIDEN JR., President of the United States of America, by virtue of the authority vested in me by the Constitution and the laws of the United States, do hereby proclaim November 2022 as National Adoption Month. I encourage all Americans to honor this month by helping the children and youth in your communities find homes where they can thrive. Through our collective action, we can connect children and youth with their forever families and give them a brighter future.

IN WITNESS WHEREOF, I have hereunto set my hand this thirty-first day of October, in the year of our Lord two thousand twenty-two, and of the Independence of the United States of America the two hundred and forty-seventh.

[FR Doc. 2022-24160

Filed 11-2-22; 11:15 am]

Billing code 3395-F3-P